COMMISSION ON CIVIL RIGHTS

State Advisory Committees

AGENCY: United States Commission on Civil Rights.

ACTION: Notice of period during which individuals may apply to be appointed to the Arkansas Advisory Committee, Florida Advisory Committee, Massachusetts Advisory Committee, Michigan Advisory Committee, Texas Advisory Committee, and Wisconsin Advisory Committee; request for applications.

SUMMARY: Because the terms of the members of the Arkansas Advisory Committee are expiring on January 3, 2015, the United States Commission on Civil Rights hereby invites any individual who is eligible to be appointed to apply. The memberships are exclusively for the Arkansas Advisory Committee, and applicants must be residents of Arkansas to be considered. Letters of interest must be received by the Central Regional Office of the U.S. Commission on Civil Rights no later than October 1, 2014. Letters of interest must be sent to the address listed below.

Because the terms of the members of the Florida Advisory Committee are expiring on January 3, 2015, the United States Commission on Civil Rights hereby invites any individual who is eligible to be appointed to apply. The memberships are exclusively for the Florida Advisory Committee, and applicants must be residents of Florida to be considered. Letters of interest must be received by the Southern Regional Office of the U.S. Commission on Civil Rights no later than October 1, 2014. Letters of interest must be sent to the address listed below.

Because the terms of the members of the Massachusetts Advisory Committee are expiring on January 3, 2015, the United States Commission on Civil Rights hereby invites any individual who is eligible to be appointed to apply. The memberships are exclusively for the Massachusetts Advisory Committee, and applicants must be residents of Massachusetts to be considered. Letters of interest must be received by the Eastern Regional Office of the U.S. Commission on Civil Rights no later than October 1, 2014. Letters of interest must be sent to the address listed below.

Because the terms of the members of the Michigan Advisory Committee are expiring on January 3, 2015, the United States Commission on Civil Rights hereby invites any individual who is eligible to be appointed to apply. The memberships are exclusively for the Michigan Advisory Committee, and applicants must be residents of Michigan to be considered. Letters of interest must be received by the Midwestern Regional Office of the U.S. Commission on Civil Rights no later than October 1, 2014. Letters of interest must be sent to the address listed below.

Because the terms of the members of the Texas Advisory Committee are expiring on January 3, 2015, the United States Commission on Civil Rights hereby invites any individual who is eligible to be appointed to apply. The memberships are exclusively for the Texas Advisory Committee, and applicants must be residents of Texas to be considered. Letters of interest must be received by the Western Regional Office of the U.S. Commission on Civil Rights no later than October 1, 2014. Letters of interest must be sent to the address listed below.

Because the terms of the members of the Wisconsin Advisory Committee are expired, the United States Commission on Civil Rights hereby invites any individual who is eligible to be appointed to apply. The memberships are exclusively for the Wisconsin Advisory Committee, and applicants must be residents of Wisconsin to be considered. Letters of interest must be received by the Midwestern Regional Office of the U.S. Commission on Civil Rights no later than October 1, 2014. Letters of interest must be sent to the address listed below.

DATES: Letters of interest for membership on the Arkansas Advisory Committee should be received no later than October 1, 2014.

Letters of interest for membership on the Florida Advisory Committee should be received no later than October 1, 2014.

Letters of interest for membership on the Massachusetts Advisory Committee should be received no later than October 1, 2014.

Letters of interest for membership on the Michigan Advisory Committee should be received no later than October 1, 2014.

Letters of interest for membership on the Texas Advisory Committee should be received no later than October 1, 2014.

Letters of interest for membership on the Wisconsin Advisory Committee should be received no later than October 1, 2014.

ADDRESSES: Send letters of interest for the Arkansas Advisory Committee to: U.S. Commission on Civil Rights, Central Regional Office, 400 State Avenue, Suite 908, Kansas City, KS 66101. Letter can also be sent via email to csanders@usccr.gov.

Send letters of interest for the Florida Advisory Committee to: U.S. Commission on Civil Rights, Southern Regional Office, 61 Forsyth St. SW., Suite 16T126, Atlanta, GA 30303. Letters can also be sent via email to teasterling@usccr.gov.

Send letters of interest for the Massachusetts Advisory Committee to: U.S. Commission on Civil Rights, Eastern Regional Office, 1331 Pennsylvania Ave NW., Suite 1150, Washington, DC 20425. Letters can also be sent via email to bdelaviez@usccr.gov.

Send letters of interest for the Michigan Advisory Committee or Wisconsin Advisory Committees to: U.S. Commission on Civil Rights, Midwestern Regional Office, 55 W. Monroe St., Suite 410, Chicago, IL 60603. Letter can also be sent via email to callen@usccr.gov.

Send letters of interest for the Texas Advisory Committee to: U.S. Commission on Civil Rights, Western Regional Office, 300 North Los Angeles St., Suite 2010, Los Angeles, CA 90012. Letter can also be sent via email to atrevino@usccr.gov.

FOR FURTHER INFORMATION CONTACT: David Mussatt, Chief, Regional Programs Unit, 55 W. Monroe St., Suite 410, Chicago, IL 60603, (312) 353-8311. Questions can also be directed via email to dmussatt@usccr.gov.

SUPPLEMENTARY INFORMATION: The Arkansas, Florida, Michigan, Massachusetts, Texas, and Wisconsin State Advisory Committees (SAC) are statutorily mandated advisory committees of the U.S. Commission on Civil Rights pursuant to 42 U.S.C. § 1975a. Under the charter for the SACs, the purpose is to provide advice and recommendations to the U.S. Commission on Civil Rights (Commission) on a broad range of civil rights matters in its respective state that pertain to alleged deprivations of voting rights or discrimination or denials of equal protection of the laws because of race, color, religion, sex, age, disability, or national origin, or the administration of justice. SACs also provide assistance to the Commission in its statutory obligation to serve as a national clearinghouse for civil rights information.

The SAC consists of not more than 19 members, each of whom will serve a two-year term. Members serve as unpaid Special Government Employees who are reimbursed for travel and expenses. To be eligible to be on a SAC, applicants must be residents of the respective state and have demonstrated expertise or interest in civil rights issues.

The Commission is an independent, bipartisan agency established by Congress in 1957 to focus on matters of race, color, religion, sex, age, disability, or national origin. Its mandate is to:

• Investigate complaints from citizens that their voting rights are being deprived,

• Study and collect information about discrimination or denials of equal protection under the law,

• Appraise federal civil rights laws and policies,

• Serve as a national clearinghouse on discrimination laws,

• Submit reports and findings and recommendations to the President and the Congress, and

• Issue public service announcements to discourage discrimination.

The Commission invites any individual who is eligible to be appointed a member of the Arkansas, Florida, Michigan, Massachusetts, Texas, or Wisconsin Advisory Committee covered by this notice to send a letter of interest and a resume to the respective address above.

Dated in Chicago, IL, on September 2, 2014.
David Mussatt,
Chief, Regional Programs Unit.

[FR Doc. 2014-21229 Filed 9-5-14; 8:45 am]

BILLING CODE P